COMMISSION ON CIVIL RIGHTS

Agenda and Notice of Public Meeting of the Colorado Advisory Committee

Notice is hereby given, pursuant to the provisions of the rules and regulations of the U.S. Commission on Civil Rights that a meeting of the Colorado Advisory Committee to the Commission will convene at 11:30 a.m. and adjourn at 2:30 p.m. on Thursday, February 15, 2001, at the Wellshire Inn, 3333 South Colorado Boulevard, Denver, Colorado 80222. The purpose of the meeting is to plan a forum in Grand Junction and review other civil rights issues affecting Colorado.

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, February 13, 2001.
Edward A. Hailes, Jr.,
General Counsel.

[FR Doc. 01-4249 Filed 2-15-01; 1:47 pm]

BILLING CODE 6335-01-P